DEPARTMENT OF TRANSPORTATION

Federal Aviation Administration

14 CFR Part 39

[Docket No. 2001-NM-176-AD; Amendment 39-13307; AD 2003-19-04]

RIN 2120-AA64

Airworthiness Directives; Bombardier Model CL-600-2B19 (Regional Jet Series 100 and 440) Airplanes

AGENCY: Federal Aviation Administration, DOT.

ACTION: Final rule.

SUMMARY: This amendment adopts a new airworthiness directive (AD), applicable to certain Bombardier Model CL-600-2B19 (Regional Jet Series 100 and 440) airplanes, that requires, for certain airplanes, a one-time inspection to detect chafing or other damage of the integrated drive generator (IDG) cables and the firewall separators of the pylon, and corrective action if necessary. For other airplanes, this AD requires identification of the part number of the clamps, and replacement with new clamps if necessary. The actions specified by this AD are intended to prevent electrical arcing between the IDG cables and the firewall separators due to chafing, which could result in an in-flight fire and/or loss of electrical power. This action is intended to address the identified unsafe condition.

DATES: Effective October 27, 2003.

The incorporation by reference of certain publications listed in the regulations is approved by the Director of the Federal Register as of October 27, 2003.

ADDRESSES: The service information referenced in this AD may be obtained from Bombardier, Inc., Canadair, Aerospace Group, P.O. Box 6087, Station Centreville, Montreal, Quebec H3C 3G9, Canada. This information may be examined at the Federal Aviation Administration (FAA), Transport Airplane Directorate, Rules Docket, 1601 Lind Avenue SW, Renton, Washington; or at the FAA, New York Aircraft Certification Office, 10 Fifth Street, Third Floor, Valley Stream, New York; or at the Office of the Federal Register, 800 North Capitol Street, NW., suite 700, Washington, DC.

FOR FURTHER INFORMATION CONTACT: Luciano L. Castracane, Aerospace Engineer, Systems and Flight Test Branch, ANE-172, FAA, New York Aircraft Certification Office, 10 Fifth Street, Third Floor, Valley Stream, New York 11581; telephone (516) 256-7535; fax (516) 568-2716.

SUPPLEMENTARY INFORMATION: A proposal to amend part 39 of the Federal Aviation Regulations (14 CFR part 39) to include an airworthiness directive (AD) that is applicable to certain Bombardier Model CL-600-2B19 series airplanes was published in the Federal Register on June 18, 2002 (67 FR 41357). That action proposed to require, for certain affected airplanes, a one-time inspection to detect chafing or other damage of the integrated drive generator (IDG) cables and the firewall separators of the pylon, and corrective action if necessary. For other affected airplanes, that action proposed to require identification of the part number of the clamps, and replacement with new clamps if necessary.

Comments

Interested persons have been afforded an opportunity to participate in the making of this amendment. Due consideration has been given to the comments received.

Request To Revise Service Information Citation

One commenter requests that the FAA revise paragraph (a) of the proposed AD to cite only Bombardier Alert Service Bulletin A601R-24-091, dated March 9, 2000; and Revision A, dated May 10, 2000; as the appropriate sources of service information for reinspecting for proper clamp part numbers. The commenter notes that Revision B of the alert service bulletin, dated September 14, 2000, was issued to, among other things, specify the proper clamp installations. The commenter agrees, however, that use of Revision B was correctly addressed in Note 2 of the proposed AD.

The FAA agrees. Paragraph (a) has been revised accordingly in this final rule.

Request To Remove “Spares” Paragraph

This same commenter requests that paragraph (c) of the proposed AD be removed. Paragraph (c) of the proposed AD stated that only those IDG cable clamps having part number TA121010R14-04 (P/N “-R”) may be installed on affected airplanes. The commenter describes other legitimate installations for another part number, TA121010L14-04 (P/N “-L”), for securing IDG cables elsewhere on the airplane. The commenter suggests revising the proposed AD to prohibit installation of P/N “-L” during accomplishment of Bombardier Alert Service Bulletin A601R-24-091, but to specify that P/N “-R” must be used to obtain the proper IDG cable orientation/clearance from the pylon separator panel.

The FAA concurs. Paragraph (c) has been revised in this final rule to prohibit installation of P/N “-L” during incorporation of Revision “C” of Bombardier Alert Service Bulletin A601R-24-091.

Conclusion

After careful review of the available data, including the comments noted above, the FAA has determined that air safety and the public interest require the adoption of the rule with the changes described previously. The FAA has determined that these changes will neither increase the economic burden on any operator nor increase the scope of the AD.

Changes to Proposed AD

The identity of affected airplanes has been changed in this final rule to “Bombardier Model CL-600-2B19 (Regional Jet series 100 and 440) airplanes” to match the type certificate data sheet for these airplanes.

Paragraph (a)(2) has been revised in this final rule to identify the source of service information to clarify the required method for the clamp replacement.

Changes to 14 CFR Part 39/Effect on the AD

On July 10, 2002, the FAA issued a new version of 14 CFR part 39 (67 FR 47997, July 22, 2002), which governs the FAA's airworthiness directives system. The regulation now includes material that relates to altered products, special flight permits, and alternative methods of compliance. However, for clarity and consistency in this final rule, we have retained the language of the NPRM regarding that material.

Revised Labor Rate

We have reviewed the figures we have used over the past several years to calculate AD costs to operators. To account for various inflationary costs in the airline industry, we find it necessary to increase the labor rate used in these calculations from $60 per work hour to $65 per work hour. The cost impact information, below, reflects this increase in the specified hourly labor rate.

Cost Impact

The FAA estimates that 160 airplanes of U.S. registry will be affected by this AD.

It will take approximately 7 work hours per airplane to accomplish the inspection, at an average labor rate of $65 per work hour. Based on these figures, the cost impact of this action is estimated to be $455 per airplane.

It will take approximately 1 work hour per airplane to determine the part number of the clamp, at an average labor rate of $65 per work hour. Based on these figures, the cost impact of this action is estimated to be $65 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2003-19-04 Bombardier, Inc. (Formerly Canadair): Amendment 39-13307. Docket 2001-NM-176-AD.

Applicability: Model CL-600-2B19 (Regional Jet series 100 and 440) airplanes, serial numbers 7003 through 7269 inclusive, certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if the unsafe condition has not been eliminated, the request should include specific proposed actions to address it.

Compliance: Required as indicated, unless accomplished previously.

To prevent electrical arcing between the integrated drive generator (IDG) cables and the firewall separators due to IDG cable chafing, which could result in an in-flight fire and/or loss of electrical power, accomplish the following:

Part Number Identification

(a) For airplanes that have been repaired or modified before the effective date of this AD in accordance with Bombardier Alert Service Bulletin A601R-24-091, dated March 9, 2000; or Revision “A,” dated May 10, 2000: Within 550 flight hours or 2 months after the effective date of this AD, whichever occurs first, determine the part numbers (P/Ns) of the clamps that hold the IDG cables on the left and right pylons.

(1) If the P/N of all clamps is TA121010R14-04: No further action is required by this paragraph.

(2) If the P/N of any clamp is NOT TA121010R14-04: Before further flight, replace the discrepant clamp with a clamp having P/N TA121010R14-04, in accordance with Bombardier Alert Service Bulletin A601R-24-091, Revision ‘C,’ dated February 1, 2001.

Inspection

(b) For airplanes not identified in paragraph (a) of this AD: Within 550 flight hours or 2 months after the effective date of this AD, whichever occurs first, perform a one-time general visual inspection to detect chafing and other damage of the IDG cables and the firewall separators of the pylon, in accordance with Bombardier Alert Service Bulletin A601R-24-091, Revision ‘C,’ dated February 1, 2001. Prior to further flight thereafter, perform all applicable corrective actions and install a clamp, a conduit, and Teflon strips, in accordance with the alert service bulletin. If a temporary repair is performed, replace the harnesses with new parts within 4,000 flight hours after the repair, in accordance with the alert service bulletin.

(c) Accomplishment of an inspection and applicable corrective actions before the effective date of this AD in accordance with Bombardier Alert Service Bulletin A601R-24-091, Revision ‘B,’ dated September 14, 2000, is acceptable for compliance with the requirements of paragraph (b) of this AD.

Note 2: For the purposes of this AD, a general visual inspection is defined as: “A visual examination of an interior or exterior area, installation, or assembly to detect obvious damage, failure, or irregularity. This level of inspection is made under normally available lighting conditions such as daylight, hangar lighting, flashlight, or drop-light, and may require removal or opening of access panels or doors. Stands, ladders, or platforms may be required to gain proximity to the area being checked.”

Part Installation

(d) As of the effective date of this AD, no person may install an IDG cable clamp, P/N TA121010L14-04, during incorporation of Revision ‘C’ of Bombardier Alert Service Bulletin A601R-24-091.

Alternative Methods of Compliance

(e) An alternative method of compliance or adjustment of the compliance time that provides an acceptable level of safety may be used if approved by the Manager, New York Aircraft Certification Office (ACO), FAA. Operators shall submit their requests through an appropriate FAA Principal Maintenance Inspector, who may add comments and then send it to the Manager, New York ACO.

Note 3: Information concerning the existence of approved alternative methods of compliance with this AD, if any, may be obtained from the New York ACO.

Special Flight Permits

(f) Special flight permits may be issued in accordance with sections 21.197 and 21.199 of the Federal Aviation Regulations (14 CFR 21.197 and 21.199) to operate the airplane to a location where the requirements of this AD can be accomplished.

Incorporation by Reference

(g) Unless otherwise specified in this AD, the actions must be done in accordance with Bombardier Alert Service Bulletin A601R-24-091, Revision ‘C,’ dated February 1, 2001. This incorporation by reference was approved by the Director of the Federal Register in accordance with 5 U.S.C. 552(a) and 1 CFR part 51. Copies may be obtained from Bombardier, Inc., Canadair, Aerospace Group, P.O. Box 6087, Station Centreville, Montreal, Quebec H3C 3G9, Canada. Copies may be inspected at the FAA, Transport Airplane Directorate, 1601 Lind Avenue, SW., Renton, Washington; or at the Office of the Federal Register, 800 North Capitol Street, NW., suite 700, Washington, DC.

Note 4: The subject of this AD is addressed in Canadian airworthiness directive CF-2000-17R1, dated October 30, 2000.

Effective Date

(h) This amendment becomes effective on October 27, 2003.

Issued in Renton, Washington, on September 11, 2003.
Vi L. Lipski,
Manager, Transport Airplane Directorate, Aircraft Certification Service.

[FR Doc. 03-23671 Filed 9-18-03; 12:01 pm]

BILLING CODE 4910-13-U